DEPARTMENT OF JUSTICE

National Institute of Corrections

Advisory Board Meeting

Time and Date: 9 a.m. to 4:30 p.m. on Monday, June 1, 2007, 9 a.m. to 4:30 p.m. on Tuesday, June 12, 2007.

Place: National Correctional, Training Academy & Information Center, 791 Chambers Road, Aurora, Colorado 80011, Tel: 303-365-4450.

Status: Open.

Matters To Be Considered: Tour of the new Academy & Information Center in Aurora, Colorado; Live Demonstration of Distance Learning; meeting the New Deputy Director Thomas Beauclair; Norval Morris Project; Agency Reports; Quarterly Report by Office of Justice Programs; U.S. Parole Commission; American Corrections Association; Federal Judicial Center.

Contact Person for More Information: Thomas Beauclair, Deputy Director, 202-307-3106, ext. 44254.

Morris L. Thigpen,
Director.

[FR Doc. 07-2660 Filed 5-29-07; 8:45 am]

BILLING CODE 4410-36-M